DEPARTMENT OF LABOR

Mine Safety and Health Administration

30 CFR Parts 57, 70, 72, and 75

[Docket No. MSHA-2014-0031]

RIN 1219-AB86

Exposure of Underground Miners to Diesel Exhaust

AGENCY: Mine Safety and Health Administration, Labor.

ACTION: Request for information; notice of public meetings.

SUMMARY: The Mine Safety and Health Administration (MSHA) is announcing the dates and locations of public meetings on the Agency's request for information on Exposure of Underground Miners to Diesel Exhaust, published on June 8, 2016. In the interest of efficiency, the public meetings will be held consecutively, on the same days in the same venues, as the public hearings announced in the MSHA's proposed rule addressing Examinations of Working Places in Metal and Nonmetal Mines, published on June 8, 2016.

DATES: The public meeting dates and locations are listed in the SUPPLEMENTARY INFORMATION section of this document. Comments for the request for information must be received by midnight Eastern Daylight Savings Time on September 6, 2016.

ADDRESSES: Comments, requests to speak, and informational materials for the rulemaking record may be sent to MSHA by one of the following methods listed below:

• Federal E-Rulemaking Portal: http://www.regulations.gov. Follow the on-line instructions for submitting comments.

• EMail: zzMSHA-comments@dol.gov.

• Mail: MSHA, Office of Standards, Regulations, and Variances, 201 12th Street South, Suite 4E401, Arlington, Virginia 22202-5452.

• Hand Delivery or Courier: 201 12th Street South, Suite 4E401, Arlington, Virginia, between 9:00 a.m. and 5:00 p.m. Monday through Friday, except Federal holidays. Sign in at the receptionist's desk on the 4th floor East, Suite 4E401.

• Fax: 202-693-9441.

FOR FURTHER INFORMATION CONTACT: Sheila A. McConnell, Director, Office of Standards, Regulations, and Variances, MSHA, at mcconnell.sheila.a@dol.gov (email), 202-693-9440 (voice); or 202-693-9441 (facsimile). These are not toll-free numbers.

SUPPLEMENTARY INFORMATION:

Instructions: All submissions for the request for information must include RIN 1219-AB86 or Docket No. MSHA-2014-0031. MSHA posts all comments without change, including any personal information provided. Access comments electronically on http://www.regulations.gov and on MSHA's Web site at https://www.msha.gov/regulations/rulemaking.

Docket: The request for information on Exposure of Underground Miners to Diesel Exhaust (81 FR 36826) was published on June 8, 2016. The document is available on https://www.regulations.gov and on MSHA's Web site at https://www.msha.gov/regulations/rulemaking/exposure-underground-miners-diesel-exhaust. Review comments in person at the Office of Standards, Regulations, and Variances, 201 12th Street South, Suite 4E401, Arlington, Virginia 22202-5452. Sign in at the receptionist's desk on the 4th floor East, Suite 4E401.

Email Notification: To subscribe to receive email notification when MSHA publishes rulemaking documents in the Federal Register, go to https://www.msha.gov.

Public Meetings: The public meetings will be held in Salt Lake City, UT; Pittsburgh, PA; Arlington, VA; and Birmingham, AL. Please see the table below for locations, and dates. The public meetings will begin immediately following the conclusion of all testimony on the Examinations of Working Places in Metal and Nonmetal Mines proposed rule.

Date | Location | Contact No.
July 19, 2016 | Homewood Suites by Hilton, Salt Lake City—Downtown, 423 West 300 South, Salt Lake City, UT 84101 | (801) 363-6700
July 21, 2016 | Hyatt Place Pittsburgh—North Shore, 260 North Shore Drive, Pittsburgh, PA 15212 | (412) 321-3000
July 26, 2016 | Mine Safety and Health Administration Headquarters, 201 12th Street, South, Rooms 7W204 & 7W206, Arlington, VA 22202 | (202) 693-9440
August 4, 2016 | Sheraton Birmingham Hotel, 2101 Richard Arrington Jr. Boulevard North, Birmingham, AL 35203 | (205) 324-5000

Public Meetings for Exposure of Underground Miners to Diesel Exhaust Request for Information

MSHA invites industry, labor and other interested parties to provide information and data on the effectiveness of the existing standards in controlling miners' exposures to diesel exhaust, including Diesel Particulate Matter (DPM). MSHA especially invites stakeholders to provide information and data on approaches that may enhance control of DPM and diesel exhaust exposures to improve protections for miners in underground coal and metal and nonmetal mines.

The public meetings will begin immediately following the conclusion of all testimony on the Examinations of Working Places in Metal and Nonmetal Mines proposed rule and conclude at 5 p.m., or until the last speaker speaks.

The meetings will be conducted in an informal manner. Speakers and other attendees may present information to MSHA for inclusion in the rulemaking record. The verbatim transcript may be viewed at https://www.regulations.gov/ and on MSHA's Web site at: https://www.msha.gov/regulations/rulemaking.

Comments must be received by midnight Eastern Daylight Savings Time on September 6, 2016.

Joseph A. Main,
Assistant Secretary of Labor for Mine Safety and Health.

[FR Doc. 2016-15190 Filed 6-24-16; 8:45 am]

BILLING CODE 4520-43-P